Proclamation 7826 of October 4, 2004

To Implement the 2004 United States-Israel Agreement on Trade in Agricultural Products

By the President of the United States of America

A Proclamation

1. On April 22, 1985, the United States entered into the Agreement on the Establishment of a Free Trade Area between the Government of the United States of America and the Government of Israel (the “FTA”), which the Congress approved in the United States-Israel Free Trade Area Implementation Act of 1985 (the “FTA Act”) (19 U.S.C. 2112 Note).

2. In order to maintain the general level of reciprocal and mutually advantageous concessions with respect to agricultural trade with Israel, on July 27, 2004, the Government of the United States entered into an agreement with the Government of Israel concerning certain aspects of trade in agricultural products during the period January 1, 2004, through December 31, 2008 (the “2004 Agreement”). The 2004 Agreement reflects an effort by the United States and Israel to address, through 2008, their continuing differences over the meaning of certain provisions in the FTA governing access for United States agricultural products to Israel's market.

3. Section 4(b) of the FTA Act provides that, whenever the President determines that it is necessary to maintain the general level of reciprocal and mutually advantageous concessions with respect to Israel provided for by the FTA, the President may proclaim such withdrawal, suspension, modification, or continuance of any duty, or such continuance of existing duty-free or excise treatment, or such additional duties as the President determines to be required or appropriate to carry out the FTA.

4. Pursuant to section 4(b) of the FTA Act, I have determined that it is necessary, in order to maintain the general level of reciprocal and mutually advantageous concessions with respect to Israel, to provide through the close of December 31, 2008, access into the United States customs territory for specified quantities of certain agricultural products of Israel free of duty or certain fees or other import charges.

5. Section 604 of the Trade Act of 1974 (19 U.S.C. 2483) (the “Trade Act”) authorizes the President to embody in the Harmonized Tariff Schedule of the United States (HTS) the substance of the relevant provisions of that act, and of other acts affecting import treatment, and actions thereunder, including removal, modification, continuance, or imposition of any rate of duty or other import restriction.

NOW, THEREFORE, I, GEORGE W. BUSH, President of the United States of America, acting under the authority vested in me by the Constitution and the laws of the United States, including section 4 of the FTA Act and section 604 of the Trade Act, do hereby proclaim:

(1) In order to implement aspects of the 2004 Agreement with the Government of Israel, concerning certain aspects of trade in agricultural products, the HTS is modified as provided in the Annex to this proclamation.

(2) Any provisions of previous proclamations and Executive Orders that are inconsistent with the actions taken in this proclamation are superseded to the extent of such inconsistency.

(3) The modifications to the HTS made by the Annex to this proclamation shall be effective with respect to goods that are the product of Israel and are entered, or withdrawn from warehouse for consumption, on or after January 1, 2004, and the tariff treatment set forth therein shall be effective as provided in such Annex through December 31, 2008.

IN WITNESS WHEREOF, I have hereunto set my hand this fourth day of October, in the year of our Lord two thousand four, and of the Independence of the United States of America the two hundred and twenty-ninth.

B

Billing code 3195-01-P

[FR Doc. 04-22759

Filed 10-6-04; 8:45 am]

Billing code 3190-01-C